DELAWARE RIVER BASIN COMMISSION

Notice of Commission Meeting and Public Hearing

Notice is hereby given that the Delaware River Basin Commission will hold an informal conference followed by a public hearing on Wednesday, August 28, 2002. The hearing will be part of the Commission's regular business meeting. Both the conference session and business meeting are open to the public and will be held at the Commission offices at 25 State Police Drive, West Trenton, New Jersey.

The conference among the Commissioners and staff will begin at 9:30 a.m. Topics of discussion include: a presentation on the performance of DRBC investments through Valley Forge Private Asset Management and Mellon Asset Management; a report on the status of the campaign to restore federal funding in the federal fiscal year 2003 budget and the implications for DRBC's budget; an update on the Comprehensive Plan; a report on the PCB Expert Panel Meeting of August 21 and the TAC-Expert Panel Meeting of August 22; a presentation by the Marasco Newton Group on its Convening Report for the TMDL Implementation Advisory Committee; a presentation by the New York City Department of Environmental Protection on the Draft New York City Filtration Avoidance Determination for the Catskill-Delaware Water Supply System; and, time permitting, a preview of the 305(b) (water quality) report on the Main Stem and Delaware Bay.

The subjects of the public hearing to be held during the 1 p.m. business meeting include, in addition to the dockets listed below, a resolution to revise Docket D-96-50 CP, issued to United Water Delaware, by the addition of a new condition “m;” and a resolution amending the Comprehensive Plan and Water Code relating to the operation of Lake Wallenpaupack during drought, drought warning and drought watch conditions. The DRBC meeting and public hearing notice posted on the Commission's Web site, http://www.drbc.net, contains a link to the text of the proposed Lake Wallenpaupack resolution.

The dockets scheduled for public hearing are as follows:

1. Holdover Project: Bidermann Golf Club D-2002-13. A ground water withdrawal project to supply up to 0.864 million gallons (mg)/30 days of water to the applicant's golf course from new Well No. 5 in the Wissahickon Formation, and to increase the existing withdrawal from all sources to 15.8 mg/30 days. The project is located in the Brandywine Creek Watershed in the City of Wilmington, New Castle County, Delaware.

2. Mount Laurel Township Municipal Authority D-85-9 CP RENEWAL. Renewal of a ground water withdrawal project to continue withdrawal of 120 mg/30 days to supply the applicant's public water distribution system from existing Wells Nos. 3, 4, 6 and 7 in the Lower Potomac-Raritan-Magothy Formation. The project is located in Mount Laurel Township, Burlington County, New Jersey.

3. Coastal Eagle Point Oil Company and Eagle Point Cogeneration Partnership D-86-15 RENEWAL 2. Renewal of a ground water withdrawal project to continue withdrawal of 232 mg/30 days to supply the applicant's industrial processes from existing Production Wells Nos. 1, 3, 4A, 5 and 6A and Recovery Wells in the Raritan-Magothy Formation. The project is located in West Deptford Township, Gloucester County, New Jersey.

4. Kimble Glass, Inc. D-99-23. A ground water withdrawal project to supply up to 50 mg/30 days of water to the applicant's glass manufacturing facility from Wells Nos. 5, 6 and 7 in the Cohansey Aquifer. The project is located in Vineland City, Cumberland County, New Jersey.

5. Artesian Water Company, Inc. D-2000-47 CP. A ground water withdrawal project to supply up to 8.0 mg/30 days of water to the applicant's public water distribution system from new Well No. 1 in the Cheswold Aquifer, and new Well No. 2 in the Frederica Aquifer, and to limit the withdrawal from all wells to 8.0 mg/30 days. The project is located in the St. Jones River Watershed near the City of Magnolia, Kent County, Delaware.

6. Artesian Water Company, Inc. D-2001-25 CP. A ground water withdrawal project to supply up to 19.44 mg/30 days of water to the applicant's public water supply system from new Wells Nos. 1 and 2 in the Rancocas Formation, and to limit the existing withdrawal from all wells to 19.44 mg/30 days. The project is located in the Smyrna River Watershed outside of Smyrna City, Kent County, Delaware.

7. The Upper Hanover Authority D-2002-10 CP. A ground water withdrawal project to supply up to 9.72 mg/30 days of water to the applicant's public water distribution system from new Well No. TUHA-4 in the Brunswick Formation and to increase the existing withdrawal from all wells from 22.4 to 32.12 mg/30 days. The project is located in the Perkiomen Creek Watershed in Upper Hanover Township, Montgomery County, in the Southeastern Pennsylvania Ground Water Protected Area.

8. Upper Makefield Township D-2002-17 CP. An upgrade and expansion of a 0.1 million gallons per day (mgd) secondary sewage treatment plant (STP) to provide tertiary treatment of 0.173 mgd. The STP will continue to serve only Upper Makefield Township, Bucks County, Pennsylvania, but a proposed development known as The Arbours at Washington Crossing will be connected. Up to 122,544 gallons per day (gpd) of STP effluent will be discharged to 18 detention/recharge basins and ponds at the proposed development, which is located on a 72-acre tract at the intersection of Taylorsville and Washington Crossing Roads. The remaining STP effluent will be discharged to the Delaware River in Water Quality Zone 1E through the existing outfall. The STP is located west of Taylorsville Road, approximately one-half mile northwest of its intersection with State Route 532.

9. Delaware Racing Association D-2002-19. An increase in a surface water withdrawal from White Clay Creek in the Christina River Watershed, from 0.4 mgd to 2.45 mgd. The proposed increase is needed to irrigate a new adjacent golf course, to be owned and operated by Parkside III, LLC. In order to meet existing bypass streamflow requirements of 40.3 cfs (26.4 mgd), two large storage ponds will be provided to contain water skimmed during higher streamflow conditions. During prolonged dry weather periods when the applicant is not permitted to withdraw surface water, pond storage supply may be supplemented under an agreement with a local water purveyor. The proposed total maximum 30-day surface water withdrawal is 22.6 mg and the maximum annual withdrawal is expected to be 71 mg for irrigation, plus 35 mg for pond storage. The project is located one mile west of the intersection of State Route 7 and the Amtrak rail lines in New Castle County, Delaware.

10. Morgan Hill Golf Club D-2002-24. A ground water withdrawal project to supply up to 6.8 mg/30 days of water to the applicant's golf course from new Well No. IW-1 in the Leithsville Dolomite Formation. The project is located in the Delaware River Watershed in Williams Township, Northampton County, Pennsylvania.

11. Village of Andes D-2002-25 CP. Construction of an STP to replace individual septic systems serving Village of Andes residents in the Town of Andes, Delaware County, New York. The proposed 0.062 mgd STP is designed to provide tertiary treatment via sequencing batch reactor and microfiltration processes. STP effluent will be discharged to Tremper Kill, a tributary of the East Branch Delaware River upstream of the Pepacton Reservoir, within the drainage area to the Delaware River Basin Commission's Special Protection Waters. The STP will be constructed between Cabin Hill and Tremper Kill Roads, just within the village border.

12. Moyer Packing Company D-2002-26. A ground water withdrawal project to supply up to 8.29 mg/30 days of water to the applicant's beef processing facility from new Wells Nos. PW-9 and PW-10 in the Brunswick Formation, and to increase the existing withdrawal from all wells to 24.0 mg/30 days. The project is located in the Skippack Creek Watershed in Franconia Township, Montgomery County, in the Southeastern Pennsylvania Ground Water Protected Area.

In addition to the public hearing items, the Commission will address the following at its 1 p.m. business meeting: Minutes of the July 17, 2002 business meeting; announcements; a report on Basin hydrologic conditions; a report by the Executive Director; a report by the Commission's General Counsel, including consideration of a timely request by Exelon Business Services Company (formerly PECO) for a hearing under Article 6 of the Commission's Rules of Practice and Procedure; a resolution extending the drought emergency declared by Resolution No. 2001-32; a resolution authorizing the Executive Director to execute an agreement with the State of New Jersey, through its Marine Sciences Consortium, to receive and expend funds not to exceed $5,000 for sampling in the Delaware Bay, Delaware Estuary and tributaries for the “Coastal 2001-2005” Project; and a resolution authorizing the Executive Director to execute an agreement with the State of New Jersey for a Section 319H Non-Point Source Pollution Control and Management Implementation Program Grant in the amount of $73,000 to provide fluvial geomorphology technical assistance for stream assessment and restoration. The meeting will end with an opportunity for public dialogue.

Documents relating to the dockets and other items may be examined at the Commission's offices. Preliminary dockets are available in single copies upon request. Please contact Thomas L. Brand at 609-883-9500 ext. 221 with any docket-related questions. Persons wishing to testify at this hearing are requested to register in advance with the Commission Secretary at 609-883-9500 ext. 203.

Individuals in need of an accommodation as provided for in the Americans With Disabilities Act who wish to attend the hearing should contact the Commission Secretary directly at 609-883-9500 ext. 203 or through the New Jersey Relay Service at 1-800-852-7899 (TTY), to discuss how the Commission may accommodate your needs.

Dated: August 13, 2002.
Pamela M. Bush,
Commission Secretary and Assistant General Counsel.

[FR Doc. 02-20951 Filed 8-16-02; 8:45 am]

BILLING CODE 6360-01-P